SECURITIES AND EXCHANGE COMMISSION

Agency Meeting

FEDERAL REGISTER CITATION OF PREVIOUS ANNOUNCEMENT: [65 FR 3986, January 25, 2000]

STATUS: Closed Meeting.

PLACE: 450 Fifth Street, NW., Washington, DC.

DATE PREVIOUSLY ANNOUNCED: January 25, 2000.

CHANGE IN THE MEETING: Cancellation of Meeting.

The closed meeting scheduled for Tuesday, January 25, 2000 at 11:00 a.m., was cancelled.

At times, changes in Commission priorities require alterations in the scheduling of meeting items. For further information and to ascertain what, if any, matters have been added, deleted or postponed, please contact:

The Office of the Secretary at (202) 942-7070.

January 27, 2000.
Jonathan G. Katz,
Secretary.

[FR Doc. 00-2160 Filed 1-27-00; 4:19 p.m]

BILLING CODE 8010-01-M